ENVIRONMENTAL PROTECTION AGENCY

[EPA-HQ-OPP-2023-0074; FRL-11590-01-OCSPP]

Cancellation Order for Certain Pesticide Registrations and Amendments To Terminate Uses

AGENCY: Environmental Protection Agency (EPA).

ACTION: Notice.

SUMMARY: This notice announces EPA's order for the cancellations and/or amendments to terminate uses, voluntarily requested by the registrants, and accepted by the Agency, of the products listed in Table 1, Table 1A & Table 2 of Unit II, pursuant to the Federal Insecticide, Fungicide, and Rodenticide Act (FIFRA). This cancellation order follows an October 16, 2023, Federal Register Notice of Receipt of Requests from the registrants listed in Table 3 of Unit II, to voluntarily cancel and/or amend to terminate uses of certain product registrations. In the October 16, 2023, notice, EPA indicated that it would issue an order implementing the cancellations and/or amendments to terminate uses, unless the Agency received substantive comments within the 30-day comment period that would merit its further review of these requests, or unless the registrants withdrew their requests. The Agency did not receive any comments on the notice. Further, the registrants did not withdraw their requests. Accordingly, EPA hereby issues in this notice a cancellation order granting the requested cancellations and/or amendments to terminate uses. Any distribution, sale, or use of the products subject to this cancellation order is permitted only in accordance with the terms of this order, including any existing stocks provisions.

DATES: The cancellations and/or amendments are effective December 27, 2023.

FOR FURTHER INFORMATION CONTACT: Christopher Green, Registration Division (7505T), Office of Pesticide Programs, Environmental Protection Agency, 1200 Pennsylvania Ave. NW, Washington, DC 20460-0001; telephone number: (202) 566-2707; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2023-0074, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (202) 566-1744. Please review the visitor instructions and additional information about the docket available at https://www.epa.gov/dockets.

II. What action is the agency taking?

This notice announces the cancellations and/or amendments to terminate uses, as requested by registrants, of products registered under FIFRA section 3 (7 U.S.C. 136a). These registrations are listed in sequence by registration number in Table 1, Table 1A and Table 2 of this unit.

Table 1—Product Cancellations
Registration No. | Company No. | Product name | Active ingredients
4-122 | 4 | Bonide A Complete Fruit Tree Spray | Captan (081301/133-06-2)—(11.76%), Carbaryl (056801/63-25-2)—(.3%), Malathion (NO INERT USE) (057701/121-75-5)—(6%).
4-412 | 4 | Bonide Malathion Insect Spray | Malathion (NO INERT USE) (057701/121-75-5)—(55%).
100-935 | 100 | Helix Xtra Insecticide with Fungicides | Difenoconazole (128847/119446-68-3)—(1.25%), Fludioxonil (071503/131341-86-1)—(.13%), Metalaxyl-M (113502/70630-17-0)—(.4%), Thiamethoxam (060109/153719-23-4)—(20.7%).
100-973 | 100 | Helix Insecticide with Fungicides | Difenoconazole (128847/119446-68-3)—(1.24%), Fludioxonil (071503/131341-86-1)—(.13%), Metalaxyl-M (113502/70630-17-0)—(.39%), Thiamethoxam (060109/153719-23-4)—(10.3%).
100-1305 | 100 | Cruiser Maxx Cereals | Difenoconazole (128847/119446-68-3)—(3.36%), Metalaxyl-M (113502/70630-17-0)—(.56%), Thiamethoxam (060109/153719-23-4)—(2.8%).
279-3563 | 279 | Report Extra Herbicide | Chlorsulfuron (118601/64902-72-3)—(62.5%), Metsulfuron (122010/74223-64-6)—(12.5%).
5481-485 | 5481 | 90% Dimethyl-T | DCPA (078701/1861-32-1)—(90%).
5481-486 | 5481 | Dacthal 1.92F | DCPA (078701/1861-32-1)—(20.7%).
5481-491 | 5481 | Dacthal W-75 | DCPA (078701/1861-32-1)—(75%).
87373-131 | 87373 | Arg Spiromesifen Technical | Spiromesifen (024875/283594-90-1)—(98.6%).
91234-275 | 91234 | A1100.02 | Spiromesifen (024875/283594-90-1)—(23.1%).
91234-276 | 91234 | A1100.03 | Spiromesifen (024875/283594-90-1)—(45.2%).
91234-277 | 91234 | A1100.04 | Spiromesifen (024875/283594-90-1)—(45.2%).
ID-080012 | 91411 | Dupont Mankocide Fungicide | Copper hydroxide (023401/20427-59-2)—(46.1%), Mancozeb (014504/8018-01-7)—(15%).
MI-110002 | 62719 | Instinct | Nitrapyrin (069203/1929-82-4)—(17.67%).
NC‐130001 | 69969 | Avipel (Dry) Corn Seed Treatment | Anthraquinone (122701/84-65-1)—(50%).
OH-110003 | 62719 | Instinct | Nitrapyrin (069203/1929-82-4)—(17.67%).

Table 1A—Product Cancellations
Registration No. | Company No. | Product name | Active ingredients
5481-490 | 5481 | Dacthal W-75 Herbicide | DCPA (078701/1861-32-1)—(75%).

The registrant requested only 6 months to sell existing stocks of the registration 5481-490, identified in Table 1A of Unit II.

Table 2—Product Registration Amendments To Terminate Uses
Registration No. | Company No. | Product name | Active ingredient | Uses to be terminated
228-660 | 228 | Nufarm Ethephon 2 Plant Growth Regulator | Ethephon (099801/16672-87-0)—(21.7%) | Non-golf turf uses; sod farms, commercial turf & golf course roughs.
11556-155 | 11556 | PNR1427 Insecticide | Flumethrin (036007/69770-45-2)—(4.5%), Imidacloprid (129099/138261-41-3)—(10%) | Cat uses.
34688-85 | 34688 | Triameen Y12D | 1,3-Propanediamine, N-(3-aminopropyl)-N-dodecyl- (067300/2372-82-9)—(91.4%) | Oil Field Water Flood Systems and Metalworking Fluid uses.
34688-86 | 34688 | Triameen Y12D Preservative | 1,3-Propanediamine, N-(3-aminopropyl)-N-dodecyl- (067300/2372-82-9)—(91.4%) | Oil Field Water Flood Systems and Metalworking Fluid uses.

Table 3 of this unit includes the names and addresses of record for all registrants of the products in Table 1, Table 1A and Table 2 of this unit, in sequence by EPA company number. This number corresponds to the first part of the EPA registration numbers of the products listed in Table 1, Table 1A and Table 2 of this unit.

Table 3—Registrants of Cancelled and/or Amended Products
EPA company No. | Company name and address
4 | Bonide Products, LLC, Attn: Audra Star, 6301 Sutliff Road, Oriskany, NY 13424.
100 | Syngenta Crop Protection, LLC, 410 Swing Road, P.O. Box 18300, Greensboro, NC 27419-8300.
228 | NuFarm Americas, Inc., Agent Name: NuFarm Americas, Inc., 4020 Aerial Center Pkwy., Ste. 101, Morrisville, NC 27560.
279 | FMC Corporation, 2929 Walnut Street, Philadelphia, PA 19104.
5481 | Amvac Chemical Corporation, 4695 Macarthur Court, Suite 1200, Newport Beach, CA 92660-1706.
11556 | Elanco US, Inc., 2500 Innovation Way, Greenfield, IN 46140.
34688 | Nouryon Surface Chemistry, LLC, 100 Matsonford Road, Building 5, Radnor, PA 19087.
62719 | Corteva Agriscience, LLC, 9330 Zionsville Road, Indianapolis, IN 46268.
69969 | Arkion Life Sciences, LLC, Agent Name: Wagner Regulatory Associates, Inc., P.O. Box 640, Hockessin, DE 19707.
87373 | Argite, LLC, Agent Name: Pyxis Regulatory Consulting, Inc., 4110 136th Street Ct. NW, Gig Harbor, WA 98332.
91234 | Atticus, LLC, Agent Name: Pyxis Regulatory Consulting, Inc., 4110 136th Street Ct. NW, Gig Harbor, WA 98332-9122.
91411 | Cosaco, LLC, Agent Name: Wagner Regulatory Associates, Inc., 7217 Lancaster Pike, Suite A, P.O. Box 640, Hockessin, DE 19707.

III. Summary of Public Comments Received and Agency Response to Comments

During the public comment period provided, EPA received no comments in response to the Federal Register notice of October 16, 2023 (88 FR 71356) (FRL-11443-01-OCSPP) announcing the Agency's receipt of the requests for voluntary cancellations and/or amendments to terminate uses of products listed in Table 1, Table 1A and Table 2 of Unit II.

IV. Cancellation Order

Pursuant to FIFRA section 6(f) (7 U.S.C. 136d(f)(1)), EPA hereby approves the requested cancellations and/or amendments to terminate uses of certain product registrations identified in Table 1, Table 1A and Table 2 of Unit II. Accordingly, the Agency hereby orders that the product registrations identified in Table 1, Table 1A and Table 2 of Unit II, are canceled and/or amended to terminate the affected uses. The effective date of the cancellations that are subject of this notice is [INSERT DATE OF PUBLICATION IN THE Federal Register]. Any distribution, sale, or use of existing stocks of the products identified in Table 1, Table 1A and Table 2 of Unit II, in a manner inconsistent with any of the provisions for disposition of existing stocks set forth in Unit VI, will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of October 16, 2023 (88 FR 71356) (FRL-11443-01-OCSPP). The comment period closed on November 15, 2023.

VI. Provisions for Disposition of Existing Stocks

Existing stocks are those stocks of registered pesticide products which are currently in the United States, and which were packaged, labeled, and released for shipment prior to the effective date of the action. The existing stocks provision for the products subject to this order is as follows.

For: 5481-490

For 581-490, listed in Table 1A of Unit II, the registrant requested only 6-months after the effective date of the cancellation to sell existing stocks, which will be the date of publication of the cancellation order in the Federal Register. The registrant may continue to sell and distribute existing stocks of the product listed in Table 1A until June 27, 2024, which is 6 months after publication of this cancellation order in the Federal Register. Thereafter, the registrant will be prohibited from selling or distributing the products identified in Table 1A of Unit II, except for export consistent with FIFRA section 17 (7 U.S.C. 136o) or for proper disposal.

For all other voluntary cancellations listed in Table 1 of Unit II, the registrants may continue to sell and distribute existing stocks of products listed in Table 1 of Unit II, until December 27, 2024, which is 1 year after publication of this cancellation order in the Federal Register. Thereafter, the registrants are prohibited from selling or distributing products listed in Table 1 of Unit II, except for export in accordance with FIFRA section 17 (7 U.S.C. 136o) or for proper disposal.

Now that EPA has approved product labels reflecting the requested amendments to terminate uses, registrants are permitted to sell or distribute products listed in Table 2 of Unit II, under the previously approved labeling until June 27, 2025, a period of 18 months after publication of the cancellation order in this Federal Register, unless other restrictions have been imposed. Thereafter, registrants will be prohibited from selling or distributing the products whose labels include the terminated uses identified in Table 2 of Unit II, except for export consistent with FIFRA section 17 or for proper disposal.

Persons other than the registrant may sell, distribute, or use existing stocks of canceled products and/or products whose labels include the terminated uses until supplies are exhausted, provided that such sale, distribution, or use is consistent with the terms of the previously approved labeling on, or that accompanied, the canceled products and/or terminated uses.

Authority: 7 U.S.C. 136 et seq.

Dated: December 21, 2023.
Charles Smith,
Director, Registration Division, Office of Pesticide Programs.

[FR Doc. 2023-28547 Filed 12-26-23; 8:45 am]

BILLING CODE 6560-50-P